DEPARTMENT OF JUSTICE

Notice of Lodging of Proposed Consent Decree Under the Clean Water Act

On January 24, 2024, the Department of Justice lodged a proposed consent decree with the United States District Court for the District of Idaho in the lawsuit entitled United States of America v. PotlatchDeltic Land & Lumber, LLC, Civil Action No. 2:24-cv-00043.

The proposed consent decree resolves claims brought by the United States on behalf of the Environmental Protection Action pursuant to sections 301 and 402 of the Clean Water Act against PotlatchDeltic Land & Lumber, LLC for violations of its National Pollutant Discharge Elimination System permits related to stormwater discharges from its sawmill and lumberyard facility in St. Maries, Idaho. The settlement requires Defendant to pay a $225,000 civil penalty. The settlement also requires Defendant to implement injunctive relief designed to ensure it will meet the compliance schedule in its current permit for its stormwater outfalls, as well as significant mitigation actions to offset environmental harms of its discharges.

The publication of this notice opens a period for public comment on the proposed consent decree. Comments should be addressed to the Assistant Attorney General, Environment and Natural Resources Division, and should refer to United States et al. v. PotlatchDeltic Land & Lumber, LLC, D.J. Ref. No. 90-5-1-1-12509. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $18.75 (25 cents per page reproduction cost) payable to the United States Treasury.

Kathryn C. Macdonald,
Assistant Section Chief, Environmental Enforcement Section, Environment and Natural Resources Division.

[FR Doc. 2024-01852 Filed 1-30-24; 8:45 am]

BILLING CODE 4410-15-P